SURFACE TRANSPORTATION BOARD

60-Day Notice of Intent To Seek Extension of Approval: Dispute Resolution Procedures Under the Fixing America's Surface Transportation Act

AGENCY: Surface Transportation Board.

ACTION: Notice and request for comments.

SUMMARY: As required by the Paperwork Reduction Act of 1995 (PRA), the Surface Transportation Board (STB or Board) gives notice of its intent to seek approval from the Office of Management and Budget (OMB) for an extension of the collection of Dispute Resolution Procedures, as described below.

DATES: Comments on this information collection should be submitted by April 24, 2020.

ADDRESSES: Direct all comments to Chris Oehrle, Surface Transportation Board, 395 E Street SW, Washington, DC 20423-0001, or to PRA@stb.gov. When submitting comments, please refer to “Paperwork Reduction Act Comments, Dispute Resolution Procedures.” For further information regarding this collection, contact Michael Higgins, Deputy Director, Office of Public Assistance, Governmental Affairs, and Compliance (OPAGAC), at (202) 245-0284 or michael.higgins@stb.gov. Assistance for the hearing impaired is available through the Federal Relay Service at (800) 877-8339.

SUPPLEMENTARY INFORMATION: Comments are requested concerning: (1) The accuracy of the Board's burden estimates; (2) ways to enhance the quality, utility, and clarity of the information collected; (3) ways to minimize the burden of the collection of information on the respondents, including the use of automated collection techniques or other forms of information technology, when appropriate; and (4) whether the collection of information is necessary for the proper performance of the functions of the Board, including whether the collection has practical utility. Submitted comments will be summarized and included in the Board's request for OMB approval.

Description of Collection

Title: Dispute Resolution Procedures.

OMB Control Number: 2140-0036.

STB Form Number: None.

Type of Review: Extension without change.

Respondents: Parties seeking the Board's informal assistance under Fixing America's Surface Transportation Act, Public Law 114-94 (signed Dec. 4, 2015) (FAST Act).

Number of Respondents: Approximately three.

Estimated Time Per Response: One hour.

Frequency: On occasion.

Total Burden Hours (annually including all respondents): Three hours (estimated hours per response (1) × total number of responses (3)).

Total Annual “Non-hour Burden” Cost (such as start-up and mailing costs): There are no non-hourly burden costs for this collection.

Needs and Uses: Title XI of the FAST Act, entitled “Passenger Rail Reform and Investment Act of 2015,” gives the Board jurisdiction to resolve cost allocation and access disputes between the National Railroad Passenger Corporation (Amtrak), the states, and potential non-Amtrak operations of intercity passenger rail service. The FAST Act directs the Board to establish procedures for the resolution of these disputes, “which may include the provision of professional mediation services.” 49 U.S.C. 24712(c)(2), 24905(c)(4). Under 49 CFR 1109.5, the Board provides that parties to a dispute involving the State-Sponsored Route Committee or the Northeast Corridor Committee may, by a letter submitted to OPAGAC, request the Board's informal assistance in securing outside professional mediation services. The letter shall include a concise description of the issues for which outside professional mediation services are sought. The collection by the Board of these request letters enables the Board to meet its statutory duty under the FAST Act.

Under the PRA, a federal agency that conducts or sponsors a collection of information must display a currently valid OMB control number. A collection of information, which is defined in 44 U.S.C. 3502(3) and 5 CFR 1320.3(c), includes agency requirements that persons submit reports, keep records, or provide information to the agency, third parties, or the public. Under 44 U.S.C. 3506(c)(2)(A), federal agencies are required to provide, prior to an agency's submitting a collection to OMB for approval, a 60-day notice and comment period through publication in the Federal Register concerning each proposed collection of information, including each proposed extension of an existing collection of information.

Dated: February 19, 2020.
Jeffrey Herzig,
Clearance Clerk.

[FR Doc. 2020-03595 Filed 2-21-20; 8:45 am]

BILLING CODE 4915-01-P